DEPARTMENT OF TRANSPORTATION

Federal Aviation Administration

14 CFR Part 39

[Docket No. FAA-2018-0903; Product Identifier 2018-NM-113-AD; Amendment 39-19616; AD 2019-07-05]

RIN 2120-AA64

Airworthiness Directives; Airbus SAS Airplanes

AGENCY: Federal Aviation Administration (FAA), DOT.

ACTION: Final rule; correction.

SUMMARY: The FAA is correcting an airworthiness directive (AD) that published in the Federal Register. That AD applies to all Airbus SAS Model A318 series airplanes; Model A319 series airplanes; Model A320-211, -212, -214, -216, -231, -232, and -233 airplanes; and Model A321-111, -112, -131, -211, -212, -213, -231, and -232 airplanes. As published, that AD contains an incomplete compliance time for the initial inspection for certain airplanes. This document corrects that error. In all other respects, the original document remains the same.

DATES: This correction is effective May 24, 2019.

The effective date of AD 2019-07-05 remains May 24, 2019.

The Director of the Federal Register approved the incorporation by reference of certain publications listed in this AD as of May 24, 2019 (84 FR 16386, April 19, 2019).

ADDRESSES: For service information identified in this final rule, contact Airbus SAS, Airworthiness Office—EIAS, Rond-Point Emile Dewoitine No: 2, 31700 Blagnac Cedex, France; telephone +33 5 61 93 36 96; fax +33 5 61 93 44 51; email account.airworth-eas@airbus.com; internet http://www.airbus.com. You may view this referenced service information at the FAA, Transport Standards Branch, 2200 South 216th St., Des Moines, WA. For information on the availability of this material at the FAA, call 206-231-3195. It is also available on the internet at http://www.regulations.gov by searching for and locating Docket No. FAA-2018-0903.

Examining the AD Docket

You may examine the AD docket on the internet at http://www.regulations.gov by searching for and locating Docket No. FAA-2019-0903; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA, 2200 South 216th St., Des Moines, WA 98198; telephone and fax 206-231-3223.

SUPPLEMENTARY INFORMATION: AD 2019-07-05, Amendment 39-19616 (84 FR 16386, April 19, 2019) (“AD 2019-07-05”), currently requires repetitive inspections for cracking of the 10VU rack fitting lugs, and repair of any cracking. That AD applies to all Airbus SAS Model A318 series airplanes; Model A319 series airplanes; Model A320-211, -212, -214, -216, -231, -232, and -233 airplanes; and Model A321-111, -112, -131, -211, -212, -213, -231, and -232 airplanes.

Need for the Correction

As published, table 1 to paragraph (h)(1) of AD 2019-07-05 contains an incomplete compliance time. The first row in table 1 to paragraph (h)(1) of AD 2019-07-05 inadvertently omitted certain clarifying compliance-time language (i.e., “whichever occurs first”) to distinguish the initial compliance thresholds. The intent of AD 2019-07-05 was to match the content and intent of European Aviation Safety Agency (EASA) AD 2018-0131, dated June 19, 2018, which provides the complete compliance threshold. In addition, the substance of paragraph (h)(1) of AD 2019-07-05 was retained from superseded AD 2016-19-14, Amendment 39-18663 (81 FR 71602, October 18, 2016).

Related Service Information Under 1 CFR Part 51

AD 2019-07-05 requires Airbus Service Bulletins A320-92-1087, Revision 03, dated July 31, 2017; and A320-92-1119, dated July 28, 2017; which the Director of the Federal Register approved for incorporation by reference as of May 24, 2019 (84 FR 16386, April 19, 2019). This service information is reasonably available because the interested parties have access to it through their normal course of business or by the means identified in the ADDRESSES section.

Correction of Publication

This document corrects an error and correctly adds the AD as an amendment to 14 CFR 39.13. Although no other part of the preamble or regulatory information has been corrected, we are publishing the entire rule in the Federal Register.

The effective date of this AD remains May 24, 2019.

Since this action only corrects an incomplete compliance time, it has no adverse economic impact and imposes no additional burden on any person. Therefore, we have determined that notice and public procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by removing Airworthiness Directive (AD) 2016-19-14, Amendment 39-18663 (81 FR 71602, October 18, 2016), and adding the following new AD:

2019-07-05 Airbus SAS: Amendment 39-19616; Docket No. FAA-2018-0903; Product Identifier 2018-NM-113-AD.

(a) Effective Date

The effective date of this AD is May 24, 2019.

(b) Affected ADs

This AD replaces AD 2016-19-14, Amendment 39-18663 (81 FR 71602, October 18, 2016) (“AD 2016-19-14”).

(c) Applicability

This AD applies to the Airbus SAS airplanes identified in paragraphs (c)(1) through (c)(4) of this AD, certificated in any category, all manufacturer serial numbers.

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(d) Subject

Air Transport Association (ATA) of America Code 92, Electric and Electronic Common Installation.

(e) Reason

This AD was prompted by a report of cracks found during maintenance inspections on certain 10VU rack fitting lugs. We are issuing this AD to address reading difficulties of flight-critical information displayed to the flightcrew during a critical phase of flight, such as an approach or takeoff, which could result in loss of airplane control at an altitude insufficient for recovery.

(f) Compliance

Comply with this AD within the compliance times specified, unless already done.

(g) Definitions

For the purpose of this AD, Group 1 airplanes are in a pre-Airbus Modification 35869 configuration, and Group 2 airplanes are in a post-Airbus Modification 35869 configuration.

(h) Repetitive Inspections

(1) For Group 1 airplanes: At the later of the times specified in table 1 to paragraph (h)(1) of this AD, and thereafter at intervals not to exceed 20,000 flight cycles or 40,000 flight hours, whichever occurs first, do a detailed inspection for cracking of the 10VU rack fitting lugs, in accordance with the Accomplishment Instructions of Airbus Service Bulletin A320-92-1087, Revision 03, dated July 31, 2017.

(2) For Group 2 airplanes: At the later of the times specified in paragraphs (h)(2)(i) and (h)(2)(ii) of this AD, and thereafter at intervals not to exceed 20,000 flight cycles or 40,000 flight hours, whichever occurs first, do a detailed inspection for cracking of the 10VU rack fitting lugs, in accordance with the Accomplishment Instructions of Airbus Service Bulletin A320-92-1119, dated July 28, 2017.

(i) Prior to exceeding 30,000 total flight cycles or 60,000 total flight hours, whichever occurs first.

(ii) Within 30 days after the effective date of this AD.

(i) Repair

If any crack is found during any inspection required by paragraph (h)(1) or (h)(2) of this AD: Before further flight, do a repair in accordance with the Accomplishment Instructions of Airbus Service Bulletin A320-92-1087, Revision 03, dated July 31, 2017 (for Group 1 airplanes); or Service Bulletin A320-92-1119, dated July 28, 2017 (for Group 2 airplanes); as applicable. Repair of a 10VU rack fitting lug does not terminate the repetitive inspections required by paragraphs (h)(1) and (h)(2) of this AD.

(j) Reporting

At the applicable time specified in paragraph (j)(1) or (j)(2) of this AD: Submit a report of findings (positive and negative) of each inspection required by paragraph (h) of this AD to Airbus Service Bulletin Reporting Online Application on Airbus World (https://w3.airbus.com/), or submit the results to Airbus in accordance with the instructions of Airbus Service Bulletin A320-92-1087, Revision 03, dated July 31, 2017 (for Group 1 airplanes); or Service Bulletin A320-92-1119, dated July 28, 2017 (for Group 2 airplanes); as applicable. Where Figure A-FAAAA, Sheet 02, of Appendix 01, “Inspection Report,” of Airbus Service Bulletin A320-92-1087, Revision 03, dated July 31, 2017; and Figure A-FAAAA, Sheet 02, of Appendix 01, “Inspection Report,” of Service Bulletin A320-92-1119, dated July 28, 2017; specifies sending removed lugs to Airbus for investigation, this AD does not include that requirement.

(1) If the inspection was done on or after the effective date of this AD: Submit the report within 90 days after the inspection.

(2) If the inspection was done before the effective date of this AD: Submit the report within 90 days after the effective date of this AD.

(k) Credit for Previous Actions

This paragraph provides credit for actions required by paragraphs (h)(1) and (i) of this AD if those actions were performed before the effective date of this AD using Airbus Service Bulletin A320-92-1087, Revision 02, dated November 25, 2014.

(l) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(m) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (n)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(n) Related Information

(1) Refer to Mandatory Continuing Airworthiness Information (MCAI) EASA AD 2018-0131, dated June 19, 2018, for related information. This MCAI may be found in the AD docket on the internet at http://www.regulations.gov by searching for and locating Docket No. FAA-2018-0903.

(2) For more information about this AD, contact Sanjay Ralhan, Aerospace Engineer, International Section, Transport Standards Branch, FAA, 2200 South 216th St., Des Moines, WA 98198; telephone and fax 206-231-3223.

(3) Service information identified in this AD that is not incorporated by reference is available at the addresses specified in paragraphs (o)(4) and (o)(5) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on May 24, 2019 (84 FR 16386, April 19, 2019).

(i) Airbus Service Bulletin A320-92-1087, Revision 03, dated July 31, 2017.

(ii) Airbus Service Bulletin A320-92-1119, dated July 28, 2017.

(4) For service information identified in this AD, contact Airbus SAS, Airworthiness Office—EIAS, Rond-Point Emile Dewoitine No: 2, 31700 Blagnac Cedex, France; telephone +33 5 61 93 36 96; fax +33 5 61 93 44 51; email account.airworth-eas@airbus.com; internet http://www.airbus.com.

(5) You may view this service information at the FAA, Transport Standards Branch, 2200 South 216th St., Des Moines, WA. For information on the availability of this material at the FAA, call 206-231-3195.

(6) You may view this service information that is incorporated by reference at the National Archives and Records Administration (NARA). For information on the availability of this material at NARA, call 202-741-6030, or go to: http://www.archives.gov/federal-register/cfr/ibr-locations.html.

Issued in Des Moines, Washington, on May 3, 2019.
Michael Kaszycki,
Acting Director, System Oversight Division, Aircraft Certification Service.

[FR Doc. 2019-09680 Filed 5-9-19; 8:45 am]

BILLING CODE 4910-13-P